DEPARTMENT OF ENERGY

Federal Energy Regulatory Commission

Notice of Settlement Agreement and Soliciting Comments

Take notice that the following settlement agreement has been filed with the Commission and is available for public inspection.

a. Type of Application: Settlement Agreement.

b. Project No.: P-7320-042.

c. Date filed: April 30, 2015.

d. Applicant: Erie Boulevard Hydropower, LP (Erie).

e. Name of Project: Chasm Hydroelectric Project.

f. Location: On the Salmon River in Franklin County, New York. The project does not occupy any federal lands.

g. Filed Pursuant to: Rule 602 of the Commission's Rules of Practice and Procedure, 18 CFR 385.602.

h. Applicant Contact: Steven Murphy, Licensing Manager, Erie Boulevard Hydropower, L.P., 33 West 1st Street South, Fulton, New York, 13069, (315) 598-6130 or email at steven.murphy@brookfieldpower.com.

i. FERC Contact: John Mudre at (202) 502-8902 or email at john.mudre@ferc.gov.

j. Deadline for filing comments: May 21, 2015. Reply comments due May 31, 2015.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-7320-042.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Erie filed the Settlement Agreement on behalf of itself and the U.S. Fish and Wildlife Service, New York State Department of Environmental Conservation, New York State Council of Trout Unlimited, and the Town of Malone, New York. The purpose of the Settlement Agreement is to resolve among the signatories various issues associated with issuance of a new license for the project, including impoundment fluctuation, base flows, bypassed reach flows, fish protection and passage, recreational enhancements, stream flow and water level monitoring, and invasive species management. Erie requests that the Commission accept and incorporate the agreed-upon items into any new license that may be issued for the project.

l. A copy of the settlement agreement is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

Dated: May 1, 2015.
Kimberly D. Bose,
Secretary.

[FR Doc. 2015-10974 Filed 5-6-15; 8:45 am]

BILLING CODE 6717-01-P